DEPARTMENT OF AGRICULTURE

Animal and Plant Health Inspection Service

[Docket No. APHIS-2008-0020]

Notice of Request for Extension of Approval of an Information Collection; Importation of Restricted and Controlled Animal and Poultry Products and Byproducts, Organisms, and Vectors Into the United States

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the importation into the United States of restricted and controlled animal and poultry products and byproducts, organisms, and vectors.

DATES: We will consider all comments that we receive on or before June 10, 2008.

ADDRESSES: You may submit comments by either of the following methods:

• Federal eRulemaking Portal: Go to http://www.regulations.gov/fdmspublic/component/main?main=DocketDetail&d=APHIS-2008-0020 to submit or view comments and to view supporting and related materials available electronically.

• Postal Mail/Commercial Delivery: Please send two copies of your comment to Docket No. APHIS-2008-0020, Regulatory Analysis and Development, PPD, APHIS, Station 3A-03.8, 4700 River Road Unit 118, Riverdale, MD 20737-1238. Please state that your comment refers to Docket No. APHIS-2008-0020.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the importation into the United States of restricted and controlled animal and poultry products and byproducts, organisms, and vectors, contact Dr. Tracye R. Butler, Assistant Director, Technical Trade Services Team, National Center for Import and Export, VS, APHIS, 4700 River Road Unit 40, Riverdale, MD 20737; (301) 734-3277. For copies of more detailed information on the information collection, contact Mrs. Celeste Sickles, APHIS* Information Collection Coordinator, at (301) 734-7477.

SUPPLEMENTARY INFORMATION: Title: Importation of Restricted and Controlled Animal and Poultry Products and Byproducts, Organisms, and Vectors into the United States.

OMB Number: 0579-0015.

Type of Request: Extension of approval of an information collection.

Abstract: The Animal and Plant Health Inspection Service (APHIS) of the United States Department of Agriculture (USDA) regulates the importation of certain animal and poultry products and byproducts, organisms, and vectors under 9 CFR parts 94, 95, 96, and 122 to prevent the introduction and spread of livestock and poultry diseases into the United States.

To accomplish this, we must collect information from a variety of individuals, both within and outside the United States, who are involved in handling, transporting, and importing these items. Collecting this information is critical to our mission of ensuring that these imported items do not present a disease risk to the livestock and poultry populations of the United States.

We use a number of forms, documents, and other activities, including those described below.

VS Form 16-3 (Application for Permit to Import Controlled Materials/Import or Transport Organisms or Vectors). This is the application and agreement form used by individuals seeking a permit.

VS Form 16-25 (Application for Approval or Report of Inspection of Establishments Handling Restricted Animal Byproducts or Controlled Materials. This is a dual purpose form. It is an application for U.S. establishments requesting approval to handle restricted imported animal byproducts and controlled materials. It also serves as a report of inspections of establishments to ensure that restricted and controlled imports are being handled in compliance with our requirements.

VS Form 16-26 (Agreement for Handling Restricted Imports of Animal Byproducts and Controlled Materials). This is a form signed by an operator of a U.S. establishment wishing to handle restricted or controlled materials in which the operator agrees to comply with all requirements for handling the restricted and controlled materials.

Certificates. Certain animal and poultry products must have a certificate from the national government of the exporting country to be eligible for importation into the United States. These certificates are required to verify that the animal or poultry products meet the sanitary requirements of our regulations (e.g., originated from disease-free animals and from animals native to the country of origin, or were prepared in a certain manner in an approved establishment).

The certificate, signed by a full-time salaried veterinary official of the country of origin, or other authorized person, provides us with information that enables us to determine whether an article meets our requirements for importation.

Seals. Certain animal or poultry products and byproducts must be shipped in sealed containers or holds to ensure that the integrity of the shipment is not violated. The seals must be numbered, the numbers of the seals must be recorded on the government certificate that accompanies the shipment, and the seals must not have been tampered with. Federal inspectors at ports of entry inspect the seals and verify that the seals are intact and that the numbers match those on the certificates.

Compliance agreement, recordkeeping requirements. Certain animal or poultry products and byproducts are required to be processed in a certain manner in an establishment in a foreign country before being exported to the United States. We require an official of the processing plant to sign a written agreement prepared by APHIS. By signing this agreement, this official certifies that the animal products being exported to the United States have been processed in a manner approved by APHIS, and that adequate records of these exports are being maintained.

Marking requirements. Before certain animal products may enter the United States, they must be marked, with an ink stamp or brand, to indicate that the products have originated from an approved meat processing establishment and have been inspected by appropriate veterinary authorities. The mark is applied to the meat product by processing plant personnel.

Foreign meat inspection certificate for importation of fresh meat from regions free of foot-and-mouth disease and rinderpest, but subject to certain restrictions due to their proximity to, or trading relationships with, regions where foot-and-mouth disease or rinderpest exists. This certificate, completed by a veterinary official of the exporting region, provides specific information regarding the establishment where the animals were slaughtered, the origin of the animals, and the processing and handling of the meat or other animal products.

Certification of a national government for importation of pork or pork products from a swine vesicular disease-free region. This is a statement, completed by a government official of an exporting region, certifying that the U.S.-destined pork or pork product originated in a region that is free from swine vesicular disease.

Certification of a national government for importation of hams. When hams are imported into the United States from regions where swine diseases of concern (e.g., classical swine fever, swine vesicular disease, and foot-and-mouth disease) exist, APHIS requires certain disease risk mitigation measures. National governments in those regions must certify that APHIS mitigation measures, such as curing and/or cooking, have been met.

Cleaning and disinfecting methods. This is a letter from veterinary officials of an exporting region stating that appropriate cleaning and disinfecting methods have been applied to trucks, railroad cars, or other means of conveyance used to transport certain animal products destined for the United States.

We are asking the Office of Management and Budget (OMB) to approve out use of these information collection activities for an additional 3 years.

The purpose of this notice is to solicit comments from the public (as well as affected agencies) concerning this information collection. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.880251215 hours per response.

Respondents: Importers, exporters, shippers, foreign animal health authorities, owner/operators of establishments (domestic and foreign) who handle restricted and controlled materials.

Estimated annual number of respondents: 10,367.

Estimated annual number of responses per respondent: 2.518857914.

Estimated annual number of responses: 26,113.

Estimated total annual burden on respondents: 22,986 hours. (Due to averaging, the total annual burden hours may not equal the product of the annual number of responses multiplied by the reporting burden per response.) All responses to this notice will be summarized and included in the request for OMB approval. All comments will also become a matter of public record.

Done in Washington, DC, this 7th day of April 2008.
Kevin Shea,
Acting Administrator, Animal and Plant Health Inspection Service.

[FR Doc. E8-7755 Filed 4-10-08; 8:45 am]

BILLING CODE 3410-34-P